POSTAL SERVICE

Board of Governors; Sunshine Act Meeting

DATES AND TIMES: January 7, 2013 at 4:00 p.m., and January 8, 2013, at 8:45 a.m.

PLACE: Phoenix, Arizona.

STATUS: Closed.

Matters To Be Considered

Monday, January 7, 2013 at 4:00 p.m.

1. Strategic Issues.

Tuesday, January 8, 2013 at 8:45 a.m.

1. Strategic Issues continued.

2. Financial Matters.

3. Pricing.

4. Personnel Matters and Compensation Issues.

5. Governors' Executive Session—Discussion of prior agenda items and Board Governance.

CONTACT PERSON FOR MORE INFORMATION: Julie S. Moore, Secretary of the Board, U.S. Postal Service, 475 L'Enfant Plaza SW., Washington, DC 20260-1000. Telephone (202) 268-4800.

Julie S. Moore,
Secretary.

[FR Doc. 2012-31090 Filed 12-20-12; 4:15 pm]

BILLING CODE 7710-12-P